DEPARTMENT OF DEFENSE

Office of the Secretary

Joint Advisory Committee on Nuclear Weapons Surety

AGENCY: Department of Defense.

ACTION: Notice of Advisory Committee Meeting—Joint Advisory Committee on Nuclear Weapons Surety.

SUMMARY: The Joint Advisory Committee on Nuclear Weapons Surety will conduct a closed session on September 8th, 2005 at the Institute for Defense Analyses, Alexandria, VA. The Joint Advisory Committee is charged with advising the Secretaries of Defense and Energy, and the Joint Nuclear Weapons Council on nuclear weapons surety matters. At this meeting the Joint Advisory Committee will receive classified briefings on nuclear weapons safety and security. In accordance with the Federal Advisory Committee Act (Pub. L. 92-463, as amended, Title 5, U.S.C. App. 2, (1988)), this meeting concerns matters sensitive to the interests of national security, listed in 5 U.S.C. Section 552b(c)(1) and accordingly this meeting will be closed to the public.

DATES: September 8, 2005.

ADDRESSES: Institute for Defense Analyses, 4850 Mark Center Drive, Alexandria, VA 22311-1882.

Dated: August 2, 2005.
Jeannette Owings-Ballard,
OSD Federal Register Liaison Officer, Department of Defense.

[FR Doc. 05-15672 Filed 8-8-05; 8:45 am]

BILLING CODE 5001-06-M